DEPARTMENT OF THE INTERIOR

Bureau of Land Management

[BLM_OR_FRN_MO4500171063]

Notice of Temporary Seasonal Wildlife Closures on Public Lands in Deschutes and Jefferson Counties, OR

AGENCY: Bureau of Land Management, Interior.

ACTION: Notice of temporary closure.

SUMMARY: Notice is hereby given that 3,479 acres of Bureau of Land Management (BLM) administered public lands described later in this notice in Deschutes and Jefferson Counties, Oregon, will be temporarily closed to all forms of entry seasonally for up to 2 years to protect the habitat of bald eagles, golden eagles, prairie falcons, and other nesting raptors during sensitive breeding and nesting time frames.

DATES: The temporary seasonal closures in the BLM Prineville District in central Oregon will take effect annually beginning on January 1 and running through August 31 for the Tumalo area, from January 15 through August 31 for the Trout Creek area, and from February 1 through August 31 for the Maston/Jaguar, Fryrear, Deep Canyon, and Horny Hollow areas. During these time frames, the Prineville District will monitor nest occupancy and determine whether any or all of these temporary closures can be lifted earlier due to nest failure and/or nest fledging; however, none of the temporary closures will be lifted earlier than May 15 of each year.

The temporary seasonal closures take effect on November 2, 2023 and will expire 30 days after the BLM publishes a final supplementary rule in the Federal Register implementing the 2005 Upper Deschutes Resource Management Plan (RMP), 1986 Two Rivers RMP, and other associated National Environmental Policy Act (NEPA) documents, or 2 years from the date of publication of this notice in the Federal Register, whichever occurs soonest.

ADDRESSES: Bureau of Land Management, Prineville District Office, 3050 NE Third Street, Prineville, Oregon 97754 or via email: BLM_OR_PR_Mail@blm.gov. Please reference “wildlife closures” on all correspondence.

Maps of these temporary seasonal closures will be posted at key locations that provide access to these areas and will be available at the Prineville District Office or by request via mail or email.

FOR FURTHER INFORMATION CONTACT: Larry Ashton, BLM Prineville District Office, at (541) 416-6700 or by email at lashton@blm.gov. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: Seasonal closure dates to protect nesting raptors vary based on migration and nesting seasons and the time needed to fledge young. Closures in these areas for bald eagle habitat will occur from January 1 up to August 31; seasonal closures to protect golden eagle habitat will occur no earlier than January 15 up to August 31; and seasonal closures to protect prairie falcon habitat will occur from March 15 up to August 15. If other raptors occupy these same nests, closures will begin March 1 and end August 31. These seasonal closures may be lifted earlier if monitoring determines that the birds have successfully fledged from their nests, have abandoned their nests, and/or no new nesting attempts are occurring in these areas; however, no closures will be lifted earlier than May 15 of each year. The start and end dates of these closures may be altered slightly if a new raptor moves in and occupies the same territory. The 3,479 acres of public land affected by these seasonal closures represent 0.21 percent of the 1.65 million acres of the public lands administered by the BLM Prineville District in central Oregon. Public access to multiple recreational trails in the immediate exterior vicinity of these closures will remain available.

Bald eagles, golden eagles, prairie falcons, and other raptors are federally protected under the Migratory Bird Treaty Act and the Lacey Act, and bald and golden eagles are also federally protected under the Bald and Golden Eagle Protection Act. Raptors are sensitive to human disturbances surrounding their nests during the breeding and nesting season, and human intrusions could jeopardize their nesting success in the public lands described later. Human-caused disturbances known to negatively impact nesting success during the closure periods include, but are not limited to, people walking, running, or riding a bike or horse; motorized vehicle use; and creating loud noises (e.g., chain saw use, blasting, shooting). The following-described seasonal closures are based on scientific findings that limiting human activities within 0.5 miles from the line of sight of occupied nests, within 0.25 miles from the non-line of sight of occupied nests, and up to 1 mile away for blasting activities, can successfully mitigate such disturbances to raptor habitat.

The BLM's 2005 Upper Deschutes RMP and Record of Decision (ROD) directs the Prineville District to avoid or mitigate impacts from human disturbances occurring in or near the habitats of these three protected species as well as other raptors. The BLM's Two Rivers RMP and ROD (1986) directs the Prineville District to apply seasonal restrictions to mitigate impacts of human activities on important seasonal wildlife habitat, including raptor nesting habitat. The seasonal closures included in this notice were also previously analyzed and approved in the following publicly reviewed NEPA documents: the Cline Buttes Recreation Area Plan Environmental Assessment (EA) and Decision Record (DR) (2010), the Crooked River Ranch Trails Project EA and DR (2008), the Tumalo Vegetation and Trail Management Project EA and DR (2012), and the Trout Creek Rock Climbing Area Access and Trail Plan EA and DR (2012). The seasonal closures included in this notice will collectively protect bald eagles nesting in the Tumalo area; five pairs of golden eagles nesting in the Maston/Jaguar, Deep Canyon, Fryrear, Tumalo, and Horny Hollow areas; and two pairs of prairie falcons nesting in the Fryrear and Maston/Jaguar areas; and can apply if alternative raptors move in and occupy these same nests.

The authority to establish these closures is found at 43 CFR 8364.1, which allows the BLM to issue orders to close or restrict public lands to protect public lands and resources.

The following persons are exempt from these closures: any Federal, Tribal, State, or local government official acting within the scope of their duties; members of any organized rescue or firefighting forces acting within the scope of their duties; and any person authorized, in writing, by the authorized officer.

Any person who violates this closure may be tried before a United States Magistrate and fined in accordance with 18 U.S.C. 3571, imprisoned no more than 12 months under 43 U.S.C. 1733(a) and 43 CFR 8360.0-7, or both. In accordance with 43 CFR 8365.1-7, State or local officials may also impose penalties for violations of Oregon law.

The legal descriptions of the affected public lands in the seasonal closure areas are:

Tumalo closure includes 80.49 acres of BLM-administered lands in the following area:

Willamette Meridian, Oregon

T. 17 S., R. 11 E.,

Sec. 3, those portions of the NE¼SE¼ and S½SE¼ lying easterly of a 50-foot perpendicular offset from the center line of the Tumalo Feed Canal and northerly of a 50-foot perpendicular offset from the center line of an unnamed dirt road more particularly described as follows:

Beginning at the road intersection with the East boundary of the section at approximate latitude: 44°07′25.9″ N., longitude: 121°23′01.0″ W., thence westerly to intersect the 50-foot perpendicular offset from the center line of the Tumalo Feed Canal at approximate latitude: 44°07′26.0″ N., longitude: 121°23′10.5″ W.

Trout Creek closure includes 406.08 acres of BLM-administered lands in the following area:

Willamette Meridian, Oregon

T. 9 S., R. 13 E.,

Sec. 12, those portions of lots 1 thru 3 and E½SE¼ lying southeasterly of a 30-foot perpendicular offset from the center line of Trout Creek Trail;

Sec. 13, NW¼NE¼.

T. 9 S., R. 14 E.,

Sec. 7, lots 4 and 5, SE¼NW¼ and NE¼SW¼, and those portions of lots 2 and 3 lying southerly of a 30-foot perpendicular offset from the center line of Trout Creek Trail.

The BLM will implement a partial opening of climbing routes in the Trout Creek area that are over 0.25 miles away from the active nest after May 15. This would allow climbing on identified “walls” with one hiking access path to the routes. Available routes and access will be posted in the Trout Creek area, at the Prineville District Office, and on all relevant BLM websites by May 15.

Deep Canyon closure includes 953.96 acres of BLM-administered lands in the following area:

Willamette Meridian, Oregon

T. 14 S., R. 11 E.,

Sec. 34, those portions of the E½NE¼, SE¼SW¼ and SE¼ lying southeasterly of a 100-foot perpendicular offset from the center line of an unnamed dirt trail more particularly described as follows:

Beginning at the trail intersection with the South boundary of the section at approximate latitude: 44°18′21.2″ N., longitude: 121°24′26.6″ W., thence northeasterly to a trail junction at approximate latitude: 44°18′24.7″ N., longitude: 121°24′24.8″ W., thence northeasterly to a trail junction at approximate latitude: 44°18′33.5″ N., longitude: 121°24′09.9″ W., thence northeasterly to a trail junction at approximate latitude: 44°18′36.6″ N., longitude: 121°24′08.8″ W., thence northeasterly to a trail junction at approximate latitude: 44°18′39.9″ N., longitude: 121°24′02.4″ W., thence easterly and northeasterly to intersect the North boundary of the section at approximate latitude: 44°19′13.7″ N., longitude: 121°23′36.0″ W.;

Sec. 35, those portions of NW¼ and S½ lying westerly of a 100-foot perpendicular offset from the center line of an unnamed dirt road more particularly described as follows:

Beginning at the road intersection with the North-South center line of the section at approximate latitude: 44°19′13.0″ N., longitude: 121°22′56.2″ W., thence southwesterly to a road junction at approximate latitude: 44°19′01.4″ N., longitude: 121°23′00.1″ W., thence southeasterly to intersect the North-South center line of the section at approximate latitude: 44°18′54.3″ N., longitude: 121°22′56.4″ W.;

Continuing on the center line of an unnamed road, beginning at the road intersection with the East-West center line at approximate latitude: 44°18′47.1″ N., longitude: 121°22′41.5″ W., thence southwesterly to intersect the South boundary of the section at approximate latitude: 44°18′21.0″ N., longitude: 121°23′00.5″ W.

T. 15 S., R. 11 E.,

Sec. 2, lot 4 and those portions of S½NW¼ and S½ lying northerly of a 100-foot perpendicular offset from the center line of State Highway No. 126 and westerly of a 100-foot perpendicular offset from the center line of an unnamed dirt road more particularly described as follows:

Beginning at the road intersection with the East-West center line of the NW¼ at approximate latitude: 44°18′07.8″ N., longitude: 121°23′02.0″ W., thence southwesterly to a road junction at approximate latitude: 44°18′04.5″ N., longitude: 121°23′06.5″ W., thence southeasterly to intersect the 100-foot perpendicular offset from the center line of State Highway No. 126 at approximate latitude: 44°17′42.5″ N., longitude: 121°22′50.1″ W.;

Sec. 3, lots 1 and 2 and those portions of lot 3, SW¼NE¼, SE¼NW¼, NE¼SW¼ and NW¼SE¼ lying northerly of a 100-foot perpendicular offset from the center line of State Highway No. 126 and easterly of a 100-foot perpendicular offset from the center line of an unnamed dirt trail more particularly described as follows:

Beginning at the intersection of the dirt trail with the North boundary of the section at approximate latitude: 44°18′21.2″ N., longitude: 121°24′26.6″ W., thence southwesterly to a trail junction at approximate latitude: 44°18′20.9″ N., longitude: 121°24′27.2″ W., thence southeasterly to a trail junction at approximate latitude: 44°18′07.6″ N., longitude: 121°24′13.0″ W., thence southwesterly to intersect the North-South center line of the NW¼ at approximate latitude: 44°18′03.4″ N., longitude: 121°24′27.8″ W.

Fryrear Canyon closure includes 1,284.90 acres of BLM-administered lands in the following area:

Willamette Meridian, Oregon

T. 15 S., R. 11 E.,

Sec. 15, those portions of W½SW1/4 lying westerly of a 100-foot perpendicular offset from the center line of OHV Trail No. 15 and OHV Trail No. 21, excepting Jordan Road also known as A.J. Warrin Road and OHV Trail No. 24, an unmaintained County dirt road, 60 feet wide;

Sec. 16, those portions of E½, NE¼NW¼ and E½SW¼ lying westerly of a 100-foot perpendicular offset from the center line of OHV Trail No. 21 and southerly of a 100-foot perpendicular offset from the center line of OHV Trail No. 23 and OHV Trail No. 20, excepting Jordan Road also known as A.J. Warrin Road and OHV Trail No. 24, an unmaintained County dirt road, 60 feet wide;

Sec. 21, those portions of N½ lying easterly of a 100-foot perpendicular offset from the center line of Fryrear Road and northerly of a 100-foot perpendicular offset from the center line of an unnamed dirt road more particularly described as follows:

Beginning at approximate latitude: 44°15′17.7″ N., longitude: 121°25′49.6″ W., thence easterly to a road junction at approximate latitude: 44°15′18.5″ N., longitude: 121°25′09.9″ W.; and northerly of a 15-foot perpendicular offset from the center line of an unnamed user defined trail, 10 feet wide, located in the S½NE¼ more particularly described as follows:

Beginning at a road junction with approximate latitude: 44°15′18.5″ N., longitude: 121°25′09.9″ W., thence northeasterly to a trail junction with approximate latitude: 44°15′20.8″ N., longitude: 121°24′56.5″ W., thence southeasterly to intersect the East-West center line of the section at approximate latitude: 44°15′18.3″ N., longitude: 121°24′55.3″ W.;

Sec. 22, those portions of W½NW¼ lying westerly of a 100-foot perpendicular offset from the center line of OHV Trail No. 15.

Maston Area closure and Deschutes River North and Deschutes River South closure includes 551.70 acres of BLM-administered lands in the following area:

Willamette Meridian, Oregon

T. 15 S., R. 12 E.,

Sec. 25, that portion of SW¼SW¼ lying southerly of a 100-foot perpendicular offset from the center line of Fat Rabbit Loop Trail and River Access Trail;

Sec. 26, that portion of SE¼SE¼ lying southeasterly of a 100-foot perpendicular offset from the center line of Fat Rabbit Loop Trail;

Sec. 35, those portions of N½, SW¼ and N½SE¼ lying southerly of a 100-foot perpendicular offset from the center line of Fat Rabbit Loop Trail, easterly of a 100-foot perpendicular offset from the center line of Wagon Train Trail, and easterly of a 100-foot perpendicular offset from the center line of Talon Trail.

T. 16 S., R. 12 E.,

Sec. 3, lot 1 and those portions of lot 2 and SE¼ lying easterly of a 100-foot perpendicular offset from the center line of Talon Trail, easterly of a 100-foot perpendicular offset from the center line of à la Rockbar Trail, northeasterly of a 100-foot perpendicular offset from the center line of River Access Trail, and northwesterly of the Deschutes River.

The prairie falcon territory and dates for the prairie falcon closure fall completely within the territory and dates for the Maston golden eagle. If the golden eagle closure is no longer needed, the closure will still apply to the prairie falcon with closure dates of March 15-August 31.

Horny Hollow closure includes 202.1 acres of BLM-administered land in the following area:

Willamette Meridian, Oregon

T. 13 S., R. 12 E.,

Sec. 3, that portion of lot 7 lying southwesterly of the Crooked River;

Sec. 4, those portions of lot 7, SW¼NE¼, SE¼NW¼, E½SW¼ and W½SE¼ lying southwesterly of the Crooked River, southerly of a line due east from the intersection of Horny Hollow Trail and Otter Bench Trail, and easterly of a 30-foot perpendicular offset from the center line of Otter Bench Trail;

Sec. 9, that portion of NE¼NE¼ lying northeasterly of a 30-foot perpendicular offset from the center line of Otter Bench Trail;

Sec. 10, that portion of NW¼NW¼ lying northerly of a 30-foot perpendicular offset from the center line of Otter Bench Trail and southerly of the Crooked River.

(Authority: 43 CFR 8364.1)

Amanda Roberts,
District Manager, Prineville.

[FR Doc. 2023-21762 Filed 10-2-23; 8:45 am]

BILLING CODE 4310-33-P